DEPARTMENT OF ENERGY

Federal Energy Regulatory Commission

[Project No. 14810-001]

Chugach Electric Association, Inc.; Notice of Surrender of Preliminary Permit

Take notice that Chugach Electric Association, Inc., permittee for the proposed Snow River Hydroelectric Project, has requested that its preliminary permit be terminated. The permit was issued on March 22, 2017, and would have expired on February 29, 2020.¹ The project would have been located on the Snow River, near Seward in the Kenai Peninsula Borough, Alaska.

¹ 158 FERC 62,225 (2017).

The preliminary permit for Project No. 14810 will remain in effect until the close of business, June 10, 2017. But, if the Commission is closed on this day, then the permit remains in effect until the close of business on the next day in which the Commission is open.² New applications for this site may not be submitted until after the permit surrender is effective.

² 18 CFR 385.2007(a)(2) (2016).

Dated: May 11, 2017.
Kimberly D. Bose,
Secretary.

[FR Doc. 2017-09958 Filed 5-16-17; 8:45 am]

BILLING CODE 6717-01-P